DEPARTMENT OF ENERGY

Federal Energy Regulatory Commission

Combined Notice of Filings #1

Take notice that the Commission received the following electric corporate filings:

Docket Numbers: EC13-90-000.

Applicants: JPM Capital Corporation.

Description: Section 203 Application for Disposition of Jurisdictional Facilities, et al. of JPM Capital Corporation.

Filed Date: 4/11/13.

Accession Number: 20130411-5136.

Comments Due: 5 p.m. ET 5/2/13.

Docket Numbers: EC13-91-000.

Applicants: Florida Power & Light Company.

Description: Application for Authorization of Merger and Acquisition of Generation Assets of Florida Power & Light Company.

Filed Date: 4/12/13.

Accession Number: 20130412-5169.

Comments Due: 5 p.m. ET 5/3/13.

Take notice that the Commission received the following electric rate filings:

Docket Numbers: ER11-4486-003.

Applicants: ITC Midwest LLC.

Description: Compliance Filing of ITC Midwest LLC to be effective 11/9/2011.

Filed Date: 4/12/13.

Accession Number: 20130412-5068.

Comments Due: 5 p.m. ET 5/3/13.

Docket Numbers: ER13-1135-001.

Applicants: Piedmont Energy Fund, LP.

Description: FERC Electric Tariff No. 1—Amended to be effective 4/22/2014.

Filed Date: 4/12/13.

Accession Number: 20130412-5097.

Comments Due: 5 p.m. ET 5/3/13.

Docket Numbers: ER13-1265-000.

Applicants: PacifiCorp.

Description: Termination of PAC Energy Engineering & Procurement Agreement to be effective 6/25/2013.

Filed Date: 4/12/13.

Accession Number: 20130412-5082.

Comments Due: 5 p.m. ET 5/3/13.

Docket Numbers: ER13-1266-000.

Applicants: CalEnergy, LLC.

Description: CalEnergy FERC MBR Tariff Application to be effective 6/3/2013.

Filed Date: 4/12/13.

Accession Number: 20130412-5129.

Comments Due: 5 p.m. ET 5/3/13.

Docket Numbers: ER13-1267-000.

Applicants: CE Leathers Company.

Description: CE Leathers FERC MBR Tariff Application to be effective 6/3/2013.

Filed Date: 4/12/13.

Accession Number: 20130412-5131.

Comments Due: 5 p.m. ET 5/3/13.

Docket Numbers: ER13-1268-000.

Applicants: Del Ranch Company.

Description: Del Ranch Company MBR Tariff Application to be effective 6/3/2013.

Filed Date: 4/12/13.

Accession Number: 20130412-5133.

Comments Due: 5 p.m. ET 5/3/13.

Docket Numbers: ER13-1269-000.

Applicants: Elmore Company.

Description: Elmore Company MBR Tariff Application to be effective 6/3/2013.

Filed Date: 4/12/13.

Accession Number: 20130412-5136.

Comments Due: 5 p.m. ET 5/3/13.

Docket Numbers: ER13-1270-000.

Applicants: Fish Lake Power LLC.

Description: Fish Lake Power LLC MBR Tariff Application to be effective 6/3/2013.

Filed Date: 4/12/13.

Accession Number: 20130412-5137.

Comments Due: 5 p.m. ET 5/3/13.

Docket Numbers: ER13-1271-000.

Applicants: Salton Sea Power Generation Company.

Description: Salton Sea Power Generation Co MBR Tariff Application to be effective 6/3/2013.

Filed Date: 4/12/13.

Accession Number: 20130412-5141.

Comments Due: 5 p.m. ET 5/3/13.

Docket Numbers: ER13-1272-000.

Applicants: Salton Sea Power L.L.C.

Description: Salton Sea Power MBR Tariff Application to be effective 6/3/2013.

Filed Date: 4/12/13.

Accession Number: 20130412-5142.

Comments Due: 5 p.m. ET 5/3/13.

Docket Numbers: ER13-1273-000.

Applicants: Vulcan/BN Geothermal Power Company.

Description: Vulcan BN Geothermal Power Co MBR Application to be effective 6/3/2013.

Filed Date: 4/12/13.

Accession Number: 20130412-5143.

Comments Due: 5 p.m. ET 5/3/13.

Docket Numbers: ER13-1274-000.

Applicants: California Independent System Operator Corporation.

Description: 2013-04-12 Tariff Clarifications Amendment to be effective 4/15/2013.

Filed Date: 4/12/13.

Accession Number: 20130412-5146.

Comments Due: 5 p.m. ET 5/3/13.

Docket Numbers: ER13-1275-000.

Applicants: Midwest Independent Transmission System Operator, Inc.

Description: 2013-04-12 Index of Customers Update to be effective 6/11/2013.

Filed Date: 4/12/13.

Accession Number: 20130412-5159.

Comments Due: 5 p.m. ET 5/3/13.

Docket Numbers: ER13-1276-000.

Applicants: Pacific Gas and Electric Company.

Description: Notice of Termination of SunPower Solar Star Quinto E&P Agreement to be effective 3/28/2013.

Filed Date: 4/12/13.

Accession Number: 20130412-5161.

Comments Due: 5 p.m. ET 5/3/13.

Docket Numbers: ER13-1277-000.

Applicants: PJM Interconnection, L.L.C.

Description: Updates to PJM Operating Agreement and RAA Membership Lists to be effective 3/31/2013.

Filed Date: 4/12/13.

Accession Number: 20130412-5170.

Comments Due: 5 p.m. ET 5/3/13.

Docket Numbers: ER13-1278-000.

Applicants: PJM Interconnection, L.L.C.

Description: Revisions to the PJM OATT & OA re Market Settlement Formulation Review to be effective 6/14/2013.

Filed Date: 4/12/13.

Accession Number: 20130412-5171.

Comments Due: 5 p.m. ET 5/3/13.

Docket Numbers: ER13-1279-000.

Applicants: New England Power Company.

Description: Interconnection Agreement Between New England Power Co. and Baltic Mill to be effective 6/12/2013.

Filed Date: 4/12/13.

Accession Number: 20130412-5181.

Comments Due: 5 p.m. ET 5/3/13.

Docket Numbers: ER13-1280-000.

Applicants: California Independent System Operator Corporation.

Description: 2013-04-12 IID ABAOA Amendment to be effective 4/16/2013.

Filed Date: 4/12/13.

Accession Number: 20130412-5182.

Comments Due: 5 p.m. ET 5/3/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 12, 2013.
Nathaniel J. Davis, Sr.,
Deputy Secretary.

[FR Doc. 2013-09351 Filed 4-19-13; 8:45 am]

BILLING CODE 6717-01-P